DEPARTMENT OF HOUSING AND URBAN DEVELOPMENT

[Docket No. FR-6268-N-01]

Notice of Regulatory Waiver Requests Granted for the First Quarter of Calendar Year 2021

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on January 1, 2021 and ending on March 31, 2021.

FOR FURTHER INFORMATION CONTACT: For general information about this notice, contact Aaron Santa Anna, Associate General Counsel for Legislation and Regulations, Department of Housing and Urban Development, 451 Seventh Street SW, Room 10276, Washington, DC 20410-0500, telephone 202-708-3055 (this is not a toll-free number). Persons with hearing- or speech-impairments may access this number through TTY by calling the toll-free Federal Relay Service at 800-877-8339.

For information concerning a particular waiver that was granted and for which public notice is provided in this document, contact the person whose name and address follow the description of the waiver granted in the accompanying list of waivers that have been granted in the first quarter of calendar year 2021.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from January 1, 2021 through March 31, 2021. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Additionally, this notice includes waivers made pursuant to the Coronavirus Aid, Relief and Economic Security Act (CARES Act), not previously published in the Federal Register. These waivers are listed separately from other individual waivers within each program office grouping, as CARES Act waivers broadly covered all affected parties rather than individual, case-by-case situations. The lists include additional Memoranda and Notices issued regarding broad CARES Act waivers provided by HUD since the enactment of the Act on March 27, 2020. In addition, the lists provide a short, two- or three-line description of each memo or notice, identifying the specific CARES Act authority and purpose of the waivers addressed therein.

Should HUD receive additional information about waivers granted during the period covered by this report (the first quarter of calendar year 2021) before the next report is published (the second quarter of calendar year 2021), HUD will include any additional waivers granted for the first quarter in the next report.

Accordingly, information about approved waiver requests pertaining to HUD regulations is provided in the Appendix that follows this notice.

Sasha Samberg-Champion,
Deputy General Counsel for Enforcement and Fair Housing.

Appendix

Listing of Waivers of Regulatory Requirements Granted by Offices of the Department of Housing and Urban Development January 1, 2021 Through March 31, 2021

Note to Reader: More information about the granting of these waivers, including a copy of the waiver request and approval, may be obtained by contacting the person whose name is listed as the contact person directly after each set of regulatory waivers granted.

The regulatory waivers granted appear in the following order:

I. Regulatory Waivers Granted by the Office of Community Planning and Development

II. Regulatory Waivers Granted by the Office of Housing

III. Regulatory Waivers Granted by the Office of Public and Indian Housing

Regulatory Waivers Granted by the Office of Community Planning and Development (CPD)

For further information about the following regulatory waivers, please see the name of the contact person that immediately follows the description of the waiver granted.

• Regulation: 24 CFR 91.105(b)(4), (c)(2), and (k); 24 CFR 91.115(b)(4), (c)(2), and (i); and 24 CFR 91.401.

Project/Activity: Any HUD Community Planning and Development (CPD) grantee located in the counties included in the declared-disaster area (see FEMA-DR-4586) seeking to expedite action in response to the 2021 Texas Severe Winter Weather, upon notification to the Community Planning and Development Director in its respective HUD Field Office.

Nature of Requirement: The regulations at 24 CFR 91.105(b)(4), (c)(2) and (k); 24 CFR 91.115(b)(4), (c)(2), and (i); and 24 CFR 91.401 require a 30-day public comment period in the development of a consolidated plan and prior to the implementation of a substantial amendment.

Granted By: James Arthur Jemison II, Principal Deputy Assistant Secretary for Community Planning and Development.

Date Granted: February 26, 2021.

Reason Waived: Several Texas CPD grantees were affected by severe winter weather that hit the state beginning February 11, 2021. As a result of substantial property loss and destruction, many individuals and families residing in the declared-disaster areas were displaced from their homes, including beneficiaries of various CPD programs, and families eligible to receive CPD program assistance. Some individuals and families continued to live in homes with habitability deficits, particularly related to potable water. A Presidentially-declared disaster declaration was issued on February 19, 2021, (FEMA-DR-4586) and further amended through February 25, 2021; for the Texas severe winter weather. The waiver granted will allow grantees to expedite recovery efforts for low- and moderate-income residents affected by the property loss and destruction resulting from this event.

Contact: James E. Höemann, Director, Entitlement Communities Division, Office of Community Planning and Development, Department of Housing and Urban Development, 451 Seventh Street SW, Room 7282, Washington, DC 20410, telephone (202) 402-5716.

• Regulation: 24 CFR 570.201(e)(1) or (2) and 24 CFR 570.207(b)(4).

Project/Activity: Any CDBG Entitlement grantee assisting persons and families who have registered with FEMA in connection with the severe winter weather in Texas upon notification by the grantee to the Community Planning and Development Director in its respective HUD Field Office.

Nature of Requirement: The regulations at 24 CFR 570.201(e) and 24 CFR 570.207(b)(4) limit the amount of CDBG funds used for public services to no more than 15 percent of each grant and prohibit the use of CDBG funds for income payments except in the case of emergency grant payments made for up to three consecutive months to a service provider, respectively. Section 105(a)(8) sets forth the limitation of no more than 15 percent of each grant to be used for public services.

Granted By: James Arthur Jemison II, Principal Deputy Assistant Secretary for Community Planning and Development.

Date Granted: February 26, 2021.

Reason Waived: Several CDBG grantees, located within the declared-disaster areas, were affected by the Texas severe winter weather. The waiver granted will allow these grantees to expedite recovery efforts for low and moderate income residents affected by this event; pay for additional support services for affected individuals and families, including, but not limited to, food, health, employment, and case management services to help persons and families impacted by the property loss and destruction caused by the severe winter weather; and enable grantees to pay for the basic daily needs of individuals and families affected by the severe winter weather on an interim basis.

Contact: James E. Höemann, Director, Entitlement Communities Division, Office of Community Planning and Development, Department of Housing and Urban Development, 451 Seventh Street SW, Room 7282, Washington, DC 20410, telephone (202) 402-5716.

• Regulation: 24 CFR 92.252(d)(1) Utility Allowance Requirements.

Project/Activity: The City of Oakland, California, Los Angeles County, California, San Diego County, California, and Contra Costa County, California requested a waiver of 24 CFR 92.252(d)(1) to allow use of the utility allowance established by local public housing agency (PHA) for four HOME-assisted project—Redwood Hill Townhomes, Ramona Seniors Development, Florence Apartments, and Tabora Gardens Senior Apartments.

Nature of Requirement: The regulation at 24 CFR 92.252(d)(1) requires participating jurisdictions to establish maximum monthly allowances for utilities and services (excluding telephone) and update the allowances annually. However, participating jurisdictions are not permitted to use the utility allowance established by the local public housing authority for HOME-assisted rental projects for which HOME funds were committed on or after August 23, 2013.

Granted By: John Gibbs, Principal Deputy Assistant Secretary for Community Planning and Development.

Date Granted: January 6, 2021.

Reason Waived: The HOME requirements for establishing a utility allowances conflict with Project-Based Voucher program requirements. It is not possible to use two different utility allowances to set the rent for a single unit and it is administratively burdensome to require a project owner establish and implement different utility allowances for HOME-assisted units and non-HOME assisted units in a project.

Contact: Virginia Sardone, Director, Office of Affordable Housing Programs, Office of Community Planning and Development, Department of Housing and Urban Development, 451 Seventh Street SW, Room 7160, Washington, DC 20410, telephone (202) 708-2684.

• Regulation: 24 CFR 92.252(d)(1) Utility Allowance Requirements.

Project/Activity: The City of Palmdale, California and the City of Eugene, Oregon requested a waiver of 24 CFR 92.252(d)(1) to allow use of the utility allowance established by the local public housing agency (PHA) for two HOME-assisted projects—Market District Commons and Courson Arts Colony.

Nature of Requirement: The regulation at 24 CFR 92.252(d)(1) requires participating jurisdictions to establish maximum monthly allowances for utilities and services (excluding telephone) and update the allowances annually. However, participating jurisdictions are not permitted to use the utility allowance established by the local public housing authority for HOME-assisted rental projects for which HOME funds were committed on or after August 23, 2013.

Granted By: John Gibbs, Principal Deputy Assistant Secretary for Community Planning and Development.

Date Granted: January 6, 2021.

Reason Waived: The HOME requirements for establishing utility allowances conflict with Project-Based Voucher program requirements. It is not possible to use two different utility allowances to set the rent for a single unit and it is administratively burdensome to require a project owner establish and implement different utility allowances for HOME-assisted units and non-HOME assisted units in a project.

Contact: Virginia Sardone, Director, Office of Affordable Housing Programs, Office of Community Planning and Development, Department of Housing and Urban Development, 451 Seventh Street SW, Room 7160, Washington, DC 20410, telephone (202) 708-2864.

• Regulation: 24 CFR 92.252(d)(1) Utility Allowance Requirements.

Project/Activity: Oakland County, Michigan requested a waiver of 24 CFR 92.252(d)(1) to allow use of the utility allowance established by the local public housing agency (PHA) for a HOME-assisted projects—Carriage Place Apartments.

Nature of Requirement: The regulation at 24 CFR 92.252(d)(1) requires participating jurisdictions to establish maximum monthly allowances for utilities and services (excluding telephone) and update the allowances annually. However, participating jurisdictions are not permitted to use the utility allowance established by the local public housing authority for HOME-assisted rental projects for which HOME funds were committed on or after August 23, 2013.

Granted By: John Gibbs, Principal Deputy Assistant Secretary for Community Planning and Development, D.

Date Granted: January 14, 2021.

Reason Waived: The HOME requirements for establishing a utility allowances conflict with Project-Based Voucher program requirements. It is not possible to use two different utility allowances to set the rent for a single unit and it is administratively burdensome to require a project owner establish and implement different utility allowances for HOME-assisted units and non-HOME assisted units in a project.

Contact: Virginia Sardone, Director, Office of Affordable Housing Programs, U.S. Department of Housing and Urban Development, 451 Seventh Street SW, Room 7160, Washington, DC 20410, telephone (202) 708-2684.

• Regulation: 24 CFR 92.251.

Project/Activity: Any housing units located in the areas under the major disaster declaration of FEMA-DR-4586 (the “declared-disaster areas”), including the state participating jurisdiction, which were damaged by the disaster and to which HOME funds are committed within two years from the date of approval of the waiver.

Nature of Requirement: The regulation at 24 CFR 92.251 requires that housing assisted with HOME funds meet property standards based on the activity undertaken, and state and local standards and codes or model codes for rehabilitation and new construction. Property standard requirements are waived for repair of properties damaged by the disaster. The lead housing safety regulations established in 24 CFR part 35 are not waived.

Granted By: James Arthur Jemison II, Principal Deputy Assistant Secretary for Community Planning and Development.

Date Granted: February 26, 2021.

Reason Waived: Several Texas CPD grantees were affected by severe winter weather that hit the state of Texas beginning February 11, 2021. As a result of substantial property loss and destruction, many individuals and families residing in the declared-disaster areas were displaced from their homes, including beneficiaries of various CPD programs, and families eligible to receive CPD program assistance. Some individuals and families continued to live in homes with habitability deficits, particularly related to potable water. The President issued a disaster declaration under title IV of the Robert T. Stafford Disaster Relief and Emergency Assistance Act for the Texas severe winter weather on February 19, 2021, (FEMA-DR-4586), and further amended it through February 25, 2021. The waiver is required to allow grantees to expedite recovery efforts for low- and moderate-income residents affected by the property loss and destruction resulting from this event.

Contact: Virginia Sardone, Director, Office of Affordable Housing Programs, U.S. Department of Housing and Urban Development, 451 Seventh Street SW, Room 7160, Washington, DC 20410, telephone (202) 708-2684.

• Regulation: 24 CFR 92.203(a)(1) and (2).

Project/Activity: Participating jurisdictions located in the counties included in the declared-disaster areas in FEMA-DR-4586 that are assisting families displaced by the disaster (as documented by FEMA registration) whose income documentation was destroyed or made inaccessible by the disaster.

Nature of Requirement: The regulation at 24 CFR 92.203(a)(1) and (2) require initial income determinations for HOME beneficiaries by examining source documents covering the most recent two months. Many families whose housing was destroyed or damaged by the disaster will not have any documentation of income and will not be able to qualify for HOME assistance if the requirement remains effective.

Granted By: James Arthur Jemison II, Principal Deputy Assistant Secretary for Community Planning and Development.

Date Granted: February 26, 2021.

Reason Waived: Several Texas CPD grantees were affected by severe winter weather that hit the state beginning February 11, 2021. As a result of substantial property loss and destruction, many individuals and families residing in the declared-disaster areas were displaced from their homes, including beneficiaries of various CPD programs, and families eligible to receive CPD program assistance. Some individuals and families continued to live in homes with habitability deficits, particularly related to potable water. The President issued a disaster declaration under title IV of the Robert T. Stafford Disaster Relief and Emergency Assistance Act for the Texas severe winter weather on February 19, 2021 (FEMA-DR-4586), and further amended it through February 25, 2021. The waiver is required to allow grantees to expedite recovery efforts for low- and moderate-income residents affected by the property loss and destruction resulting from this event.

Contact: Virginia Sardone, Director, Office of Affordable Housing Programs, U.S. Department of Housing and Urban Development, 451 Seventh Street SW, Room 7160, Washington, DC 20410, telephone (202) 708-2684.

• Regulation: 24 CFR 93.151(c).

Project/Activity: Families displaced by the disaster (as documented by FEMA registration) whose income documentation was destroyed or made inaccessible by the disaster.

Nature of Requirement: The regulation at 24 CFR 93.151(c) requires initial income documentations for HTF beneficiaries by examining source documentation for at least two months. Many families whose homes were destroyed or damaged by the disaster will not have any documentation of income and will not be able to qualify for HTF assistance if the requirement remains effective.

Granted By: James Arthur Jemison II, Principal Deputy Assistant Secretary for Community Planning and Development.

Date Granted: February 26, 2021.

Reason Waived: Several Texas CPD grantees were affected by severe winter weather that hit the state beginning February 11, 2021. As a result of substantial property loss and destruction, many individuals and families residing in the declared-disaster areas were displaced from their homes, including beneficiaries of various CPD programs, and families eligible to receive CPD program assistance. Some individuals and families continued to live in homes with habitability deficits, particularly related to potable water. The President issued a disaster declaration under title IV of the Robert T. Stafford Disaster Relief and Emergency Assistance Act for the Texas severe winter weather on February 19, 2021 (FEMA-DR-4586), and further amended it through February 25, 2021. The waiver is required to allow grantees to expedite recovery efforts for low- and moderate-income residents affected by the property loss and destruction resulting from this event.

Contact: Virginia Sardone, Director, Office of Affordable Housing Programs, U.S. Department of Housing and Urban Development, 451 Seventh Street SW, Room 7160, Washington, DC 20410, telephone (202) 708-2684.

• Regulation: 24 CFR 92.252(d)(1) Utility Allowance Requirements.

Project/Activity: Santa Clara County and Contra Costa County requested a waiver of 24 CFR 92.252(d)(1) to allow use of the utility allowance established by the local public housing agency (PHA) for three HOME-assisted projects- Met South Apartments, The Veranda, and Veterans Square.

Nature of Requirement: The regulation at 24 CFR 92.252(d)(1) requires participating jurisdictions to establish maximum monthly allowances for utilities and services (excluding telephone) and update the allowances annually. However, participating jurisdictions are not permitted to use the utility allowance established by the local public housing authority for HOME-assisted rental projects for which HOME funds were committed on or after August 23, 2013.

Granted By: James Arthur Jemison II, Principal Deputy Assistant Secretary for Community Planning and Development, D.

Date Granted: March 8, 2021.

Reason Waived: The HOME requirements for establishing a utility allowances conflict with Project Based-Voucher program requirements. It is not possible to use two different utility allowances to set the rent for a single unit and it is administratively burdensome to require a project owner establish and implement different utility allowances for HOME-assisted units and non-HOME assisted units in a project.

Contact: Virginia Sardone, Director, Office of Affordable Housing Programs, U.S. Department of Housing and Urban Development, 451 Seventh Street SW, Room 7160, Washington, DC 20410, telephone (202) 708-2684.

• Regulation: 24 CFR 574.310(b)(2).

Project/Activity: This waiver of the Property Standards in 24 CFR part 574 was provided with respect to the use of Housing Opportunities for Persons With AIDS (HOPWA) funds to address the housing needs of eligible families following the severe winter weather in Texas, for which a disaster declaration was made in February 2021.

Nature of Requirement: Section 574.310(b)(2) of the HOPWA regulations provides minimum housing quality standards that apply to housing for which HOPWA funds are used for acquisition, rehabilitation, conversion, lease, or repair; new construction of single room occupancy dwellings and community residences; project or tenant-based rental assistance; or operating costs under 24 CFR 574.300(b) (3), (4), (5), or (8).

Granted By: James A. Jemison, Principal Deputy Assistant Secretary for Community Planning and Development.

Date Granted: February 26, 2021.

Reason Waived: HUD determined that this waiver was necessary to enable grantees and project sponsors to expeditiously meet the critical housing needs of the many eligible families in the area covered by the major disaster declared under title IV of the Robert T. Stafford Disaster Relief and Emergency Assistance Act (Stafford Act), DR-4586-TX, dated February 19, 2021, as amended.

Applicability: The property standard requirements in 24 CFR 574.310(b)(2) are waived for units in the declared-disaster areas that are or will be occupied by HOPWA-eligible households, provided that the units are free of life-threatening conditions as defined in Notice PIH 2017-20 (HA). Grantees must ensure that these units meet HOPWA HQS within 60 days of the date of this memorandum.

Contact: Amy Palilonis, Office of HIV/AIDS Housing, Office of Community Planning and Development, Department of Housing and Urban Development, 451 Seventh Street SW, Room 7248, Washington, DC 20410, telephone (202) 402-5916. amy.l.palilonis@hud.gov.

• Regulation: 24 CFR 574.310(b).

Project/Activity: This waiver of the HOPWA Property Standards was provided with respect to the use HOPWA funds to address the housing needs of eligible families under the unique circumstances of the COVID-19 pandemic and the resulting economic upheaval in affected communities.

Nature of Requirement: This section of the HOPWA regulations provides that all housing assisted with acquisition, rehabilitation, conversion, lease, or repair; new construction of single room occupancy dwellings and community residences; project or tenant-based rental assistance; or operating costs must meet the applicable housing quality standards outlined in the regulations.

Granted By: James A. Jemison, Principal Deputy Assistant Secretary for Community Planning and Development.

Date Granted: March 31, 2021.

Reason Waived: On March 31, 2020 HUD waived the physical inspection requirement for tenant-based rental assistance at 24 CFR 574.310(b) for one year. On May 22, 2020 HUD waived the physical inspection requirement for acquisition, rehabilitation, conversion, lease, or repair; new construction of single room occupancy dwellings and community residences; projector tenant-based rental assistance; or operating costs for one year. Grantees and project sponsors continue to report difficulty in conducting the initial inspection of units due to social distancing guidelines. Extending these waivers until June 30, 2021 will allow grantees and project sponsors to quickly move households into housing, which enables social distancing, and helps prevent the spread of COVID-19. Additionally, grantees and project sponsors will need time when social distancing guidelines are no longer in effect to prepare staff to physically re-inspect units for HQS.

Applicability: This waiver is in effect until June 30, 2021 for grantees and project sponsors that can meet the following criteria:

a. The grantee or project sponsor is able to visually inspect the unit using technology, such as video streaming, to ensure the unit meets HQS before any assistance is provided; and

b. The grantee or project sponsor has written policies to physically reinspect the unit within 3 months after the health officials determine special measures to prevent the spread of COVID-19 are no longer necessary.

Contact: Amy Palilonis, Office of HIV/AIDS Housing, Office of Community Planning and Development, Department of Housing and Urban Development, 451 Seventh Street SW, Room 7248, Washington, DC 20410, telephone (202) 402-5916. amy.l.palilonis@hud.gov.

• Regulation: 24 CFR 574.320(a)(2).

Project/Activity: This waiver of the FMR Rent Standard for HOPWA Rental Assistance was provided with respect to the use HOPWA funds to address the housing needs of eligible families under the unique circumstances of the COVID-19 pandemic and the resulting economic upheaval in affected communities.

Nature of Requirement: Grantees must establish rent standards for their rental assistance programs based on FMR (Fair Market Rent) or the HUD-approved community-wide exception rent for unit size. Generally, the rental assistance payment may not exceed the difference between the rent standard and 30 percent of the family's adjusted income.

Granted By: James A. Jemison, Principal Deputy Assistant Secretary for Community Planning and Development.

Date Granted: March 31, 2021.

Reason Waived: HUD originally waived the FMR rent standard requirement for tenant-based rental assistance for one year on March 31, 2020. On May 22, 2020 HUD waived this requirement for one year for all rental assistance types. Grantees and project sponsors continue to report COVID-19 related health and financial hardships for HOPWA-eligible households. Extending this waiver of the FMR rent standard limit, while still requiring that the unit be rent reasonable in accordance with § 574.320(a)(3), will assist grantees and project sponsors in expediting efforts to identify suitable housing units for rent to eligible households experiencing the ongoing health and financial impacts of the COVID-19 pandemic and economic crisis.

Applicability: The FMR requirement continues to be waived until June 30, 2021. Grantees and project sponsors must still ensure the reasonableness of rent charged for a unit in accordance with § 574.320(a)(3).

Contact: Amy Palilonis, Office of HIV/AIDS Housing, Office of Community Planning and Development, Department of Housing and Urban Development, 451 Seventh Street SW, Room 7248, Washington, DC 20410, telephone (202) 402-5916. amy.l.palilonis@hud.gov.

• Regulation: 24 CFR 574.330(a)(1).

Project/Activity: This waiver of the time limits for HOPWA Short-Term Supported Housing was provided with respect to the use HOPWA funds to address the housing needs of eligible families under the unique circumstances of the COVID-19 pandemic and the resulting economic upheaval in affected communities.

Nature of Requirement: A short-term supported housing facility may not provide residence to any individual for more than 60 days during any six-month period. Short-Term Rent, Mortgage, and Utility (STRMU) payments to prevent the homelessness of the tenant or mortgagor of a dwelling may not be provided for costs accruing over a period of more than 21 weeks in any 52-week period.

Granted By: James A. Jemison, Principal Deputy Assistant Secretary for Community Planning and Development.

Date Granted: March 31, 2021.

Reason Waived: HUD originally waived this requirement on May 22, 2020 to prevent homelessness or discharge to unstable housing situations for households residing in short-term housing facilities or units assisted with STRMU if permanent housing could not be achieved within the time limits specified in the regulation. Extending this waiver is necessary because grantees and project sponsors continue to report that households require longer periods of assistance due to financial and health-related hardships stemming from the COVID-19 pandemic.

Applicability: This waiver is made available for all HOPWA grants except those funded under the CARES Act or for the portion of a grantee's FY 2020 formula funds that have been approved under its Annual Action Plan (AAP) for allowable activities to prevent, prepare for, and respond to the COVID-19 pandemic as described in section V. of Notice CPD-20-05. On an individual household basis, grantees or project sponsors may assist eligible households for a period that exceeds the time limits specified in the regulations. A short-term supported housing facility may provide residence to any individual for a period of up to 120 days in a six-month period. STRMU payments to prevent the homelessness of the tenant or mortgagor of a dwelling may be provided for costs accruing up to 52 weeks in a 52-week period. This waiver is in effect until June 30, 2021 for grantees and project sponsors that can meet the following criteria:

a. The grantee or project sponsor documents that a good faith effort has been made on an individual household basis to assist the household to achieve permanent housing within the time limits specified in the regulations but that financial needs and/or health and safety concerns have prevented the household from doing so; and

b. The grantee or project sponsor has written policies and procedures outlining efforts to regularly reassess the needs of assisted households as well as processes for granting extensions based on documented financial needs and/or health and safety concerns.

Contact: Amy Palilonis, Office of HIV/AIDS Housing, Office of Community Planning and Development, Department of Housing and Urban Development, 451 Seventh Street SW, Room 7248, Washington, DC 20410, telephone (202) 402-5916. amy.l.palilonis@hud.gov.

• Regulation: 24 CFR 576.2, definition of “homeless,” (l)(iii).

Project/Activity: An individual may qualify as homeless under paragraph (1)(iii) the homeless definition in 24 CFR 576.2 so long as he or she is exiting an institution where they resided for 120 days or less and resided in an emergency shelter or place not meant for human habitation immediately before entering that institution. This waiver is in effect until June 30, 2021.

Nature of Requirement: An individual who is exiting an institution where he or she resided for 90 days or less and who resided in an emergency shelter or place not meant for human habitation immediately before entering that institution are considered homeless per 24 CFR 576.2, definition of “homeless.”

Granted By: James A. Jemison, Principal Deputy Assistant Secretary for Community Planning and Development.

Date Granted: March 31, 2021.

Reason Waived: HUD originally waived this requirement on September 30, 2020 to keep housing options open for individuals who otherwise would have been homeless but were reporting longer stays in institutions as a result of COVID-19 (e.g., longer time in jail due to a postponed court dates due to courts closings or courts operating at reduced capacity and longer hospital stays when infected with COVID-19. Allowing someone who was residing in an emergency shelter or place not meant for human habitation prior to entering the institution to maintain their homeless status while residing in an institution for longer than 90 days is necessary to prevent the spread of and respond to COVID-19 by expanding housing options for people who were experiencing homelessness and institutionalized for longer than traditionally required due to COVID-19. Recipients continue to report potential program participants are staying in institutions for longer periods of time due to COVID-19; therefore, HUD is extending this waiver to allow someone who was residing in an emergency shelter or place not meant for human habitation prior to entering the institution to maintain their homeless status while residing in an institution for longer than 90 days.

Contact: Norm Suchar, Director, Office of Special Needs Assistance Programs, Office of Community Planning and Development, Department of Housing and Urban Development, 451 Seventh Street SW, Room 7262, Washington, DC 20410, telephone number (202) 708-4300.

• Regulation: 24 CFR 576.106(e).

Project/Activity: HUD granted a waiver of 24 CFR 576.106(e) to the City of Tulsa, to allow its subrecipient, the Mental Health Association Oklahoma (MHAOK) to provide rapid re-housing rental assistance and housing relocation and stabilization services to program participants who have chosen units that MHAOK owns, which would require that MHAOK will have to enter into a rental assistance agreement with its property management division. MHAOK is required to comply with the Conflict of Interest requirements as stated in 24 CFR 576.404.

Nature of Requirement: Section 576.106(e) of the Emergency Solutions Grants (ESG) Program Interim rule requires recipients to have a rental assistance agreement with the owner of any property for which they will provide rental assistance payments. The rental assistance agreement must include the terms under which rental assistance will be provided. It also requires the owner to give the recipient or subrecipient a copy of any notice to the program participant to vacate the housing unit or any complaint used under State or local law to commence an eviction action against the program participant. Also, each rental assistance agreement that is executed or renewed on or after December 16, 2016 must include all protections that apply to tenants and applicants under 24 CFR part 5, subpart L, as supplemented by § 576.409, except for the emergency transfer plan requirements under 24 CFR 5.2005(e) and 576.409(d). If the housing is not assisted under another “covered housing program”, as defined in 24 CFR 5.2003, the agreement may provide that the owner's obligations under 24 CFR part 5, subpart L (Protection for Victims of Domestic Violence, Dating Violence, Sexual Assault, or Stalking), expire at the end of the rental assistance period.

Granted By: John Gibbs, Principal Deputy Assistant Secretary for Community Planning and Development.

Date Granted: January 6, 2021.

Reason Waived: HUD granted the waiver to increase housing options for ESG program participants in Tulsa, OK being assisted by the city's subrecipient, MHAOK. Homelessness in the City of Tulsa increased 27% from 2015 to 2020. MHAOK has been awarded rapid rehousing funding to provide rapid rehousing rental assistance and housing relocation and stabilization services for up to 140 households. MHAOK owns 40 properties in the community, which are included in the available pool of units from which an eligible program participant may choose to live. If a program participant selects one of their own housing units, MHAOK requires a waiver of the rental assistance agreement requirements in order to enter an agreement with its property management division (Eastoak Property Management).

Contact: Norm Suchar, Director, Office of Special Needs Assistance Programs, Office of Community Planning and Development, Department of Housing and Urban Development, 451 Seventh Street SW, Room 7262, Washington, DC 20410, telephone number (202) 708-4300.

• Regulation: 24 CFR 576.203(a)(1).

Project/Activity: HUD granted a waiver of 24 CFR 576.203(a)(1) to Oregon Housing and Community Services (OHCS), to extend its obligation date to March 31, 2021 to provide time to evaluate new applications, award funds, and account for unforeseen delays due to the implementation of a new funding approach to meet the unprecedented need during the COVID-19 pandemic and identify new subrecipients with the capacity to administer ESG-CV funds.

Nature of Requirement: Section 24 CFR 576.203(a)(1) requires states to obligate funds within 60 days from the date that it signs the grant agreement with HUD. HUD further waived this requirement in CPD-20-08 Notice: Waivers and Alternative Requirements for the Emergency Solutions Grants (ESG) Program Under the CARES Act (ESG-CV Notice) so long as states obligated funds within 180 days for activities it will carry out itself and 240 days for activities it will obligate to subrecipients.

Granted By: John Gibbs, Principal Deputy Assistant Secretary for Community Planning and Development.

Date Granted: January 7, 2021.

Reason Waived: HUD granted the waiver to extend OHCS's obligation deadline from February 18, 2021 to March 31, 2021 to provide additional time to implement a new competitive process for allocating funds and identifying new subrecipients with the capacity to administer ESG CARES Act funds. The waiver provides OHCS with time needed to complete their funding process.

Contact: Norm Suchar, Director, Office of Special Needs Assistance Programs, Office of Community Planning and Development, Department of Housing and Urban Development, 451 Seventh Street SW, Room 7262, Washington, DC 20410, telephone number (202) 708-4300.

• Regulation: 24 CFR 578.103(a)(7)(iv).

Project/Activity: The waiver of the requirement at 24 CFR 578.103(a)(7)(iv) that the recipient or subrecipient may only rely on program participant self-certification of income if the other permitted types of documentation are unobtainable when conducting the initial or subsequent rent or occupancy charge calculations is in effect until June 30, 2021. During this time, 24 CFR 578.103(a)(7)(iv) is waived to the extent necessary to allow recipients or subrecipients to document annual income with the written certification by the program participant of the amount of income that the program participant is reasonably expected to receive over the 3-month period following the evaluation, even if source documents and third-party verification, are obtainable.

Nature of Requirement: 24 CFR 578.103(a)(7) requires the recipient or subrecipient to keep records of the program participant's income and the back-up documentation they relied on to determine income. The regulation establishes an order of preference for the type of documentation that recipients can rely upon. Only if source documents and third-party verification are unobtainable is a written certification from the program participant acceptable documentation of income. HUD is waiving “To the extent that source documents and third-party verification are unobtainable” in 578.103(a)(7)(iv).

Granted By: James A. Jemison, Principal Deputy Assistant Secretary for Community Planning and Development.

Date Granted: March 31, 2021.

Reason Waived: On September 30, 2020, HUD waived the requirement to attempt to document that third-party verification of income was unobtainable in order for recipients and subrecipients to a program participant's own self-certification of income until December 31, 2020 because that documentation may be difficult to obtain as a result of COVID-19 pandemic and housing program participants quickly was important to prevent the spread of COVID-19. On December 30, 2020, HUD extended this waiver to March 31, 2021. It continues to be important to move people into their own housing quickly to enable social distancing and prevent the spread of COVID-19; therefore, waiving the requirement that source documents and third-party documentation be unobtainable in order for recipients or subrecipients to rely on a program participant's own certification of their income.

Contact: Norm Suchar, Director, Office of Special Needs Assistance Programs, Office of Community Planning and Development, Department of Housing and Urban Development, 451 Seventh Street SW, Room 7262, Washington, DC 20410, telephone number (202) 708-4300.

• Regulation: The definition of “Point-in-time count” in 24 CFR 578.3, and 24 CFR 578.7(c)(2), 24 CFR 578.7(c)(2)(i).

Project/Activity: HUD is waiving the definition of “Point-in-time count” in 24 CFR 578.3 and the requirements at 24 CFR 578.7(c)(2)(i) and 24 CFR 578.7(c)(2) to the extent necessary to remove the requirement that Continuum of Care Program (CoC) conduct a biennial point-in-time count in FY2021 of people experiencing unsheltered homelessness, even if the CoC did not conduct a point-in-time count of people experiencing unsheltered homelessness in FY2020. Waiving the requirements at 24 CFR 578.3, 24 CFR 578.7(c)(2)(i) and 24 CFR 578.7(c)(2) that require CoCs conduct a FY2021 biennial point-in-time count of unsheltered homeless is available for CoCs that complete the notification process by the January 20, 2021 deadline. CoCs that use the waivers of 24 CFR 578.3, 24 CFR 578.7(c)(2) and 24 CFR 578.7(c)(2)(i) must still conduct their FY2021 biennial point-in-time count of sheltered homeless persons if one is required in FY2021 consistent with the requirements in Notice CPD-18-08. CoCs that do not use the waivers of 24 CFR 578.3, 24 CFR 578.7(c)(2)(i) and 24 CFR 578(c)(2) must still conduct their FY2021 biennial point-in-time count of homeless persons for both sheltered and unsheltered homeless persons if one is required in FY2021.

Nature of Requirement: The definition of “Point-in-time count” in 24 CFR 578.3, and 24 CFR 578.7(c)(2) and 24 CFR 578.7(c)(2)(i) require CoCs to plan for and conduct, at least biennially, a point-in-time count of homeless persons within the geographic area and count as unsheltered homeless persons individuals who are living in a place not designated or ordinarily used as a regular sleeping accommodation for humans. 24 CFR 578.7(c)(2)(iii) also requires CoCs to comply with other requirements established by HUD by Notice for the point-in-time count.

Granted By: John Gibbs, Acting Assistant Secretary for Community Planning and Development.

Date Granted: January 7, 2021.

Reason Waived: Conducting a point-in-time count of people experiencing unsheltered homelessness requires countless hours of planning and volunteers. Additionally, on the night of the count, it requires people to approach people experiencing unsheltered homelessness to collect data. Because of COVID-19, CoCs have been short staffed and busy preparing for and implementing measures to prevent the spread of COVID-19 in their communities. Additionally, CoCs are reporting challenges in finding volunteers to survey individuals experiencing unsheltered homelessness on the night of the count due to fears of COVID-19. Further, CoCs are reporting challenges obtaining personal protective equipment (PPE) necessary to equip volunteers and people experiencing unsheltered homelessness to have the conversations necessary to collect the required data. These challenges are present in every part of the country. As of December, every single state had at least 9 new COVID cases per day per 100,000 population. For these reasons, providing waiver flexibility for the FY2021 point-in-time count for unsheltered homelessness helps prevent the spread of COVID-19.

Contact: Norm Suchar, Director, Office of Special Needs Assistance Programs, Office of Community Planning and Development, Department of Housing and Urban Development, 451 Seventh Street SW, Room 7262, Washington, DC 20410, telephone number (202) 708-4300.

• Regulation: 24 CFR 578.3, definition of permanent housing, 24 CFR 578.51(1)(1).

Project/Activity: The one-year lease requirement is waived for leases executed between the date of March 31, 2021 and June 30, 2021, so long as the initial term of all leases is at least one month.

Nature of Requirement: Program participants residing in PSH must be the tenant on a lease for a term of at least one year that is renewable and terminable for cause.

Granted By: James A. Jemison, Principal Deputy Assistant Secretary for Community Planning and Development.

Date Granted: March 31, 2021.

Reason Waived: HUD originally waived this requirement for 6-months on March 31, 2020. On September 30, 2020, HUD waived this requirement again until December 31, 2020. HUD extended this waiver again on December 30, 2020 until March 31, 2021 to help recipients more quickly identify permanent housing for individuals and families experiencing homelessness, which is helpful in preventing the spread of COVID-19. Extending this waiver is necessary because recipients continue to need to help program participants identify housing quickly to help prevent the spread of COVID-19. Additionally, even after special measures are no longer necessary to prevent the spread of COVID-19, helping program participants move into housing quickly will continue to decrease the risk of people experiencing homelessness of contracting COVID-19.

Contact: Norm Suchar, Director, Office of Special Needs Assistance Programs, Office of Community Planning and Development, Department of Housing and Urban Development, 451 Seventh Street SW, Room 7262, Washington, DC 20410, telephone number (202) 708-4300.

• Regulation: 24 CFR 578.3, definition of “homeless” (1)(iii).

Project/Activity: An individual may qualify as homeless under paragraph (1)(iii) of the homeless definition in 24 CFR 578.3 so long as he or she is exiting an institution where they resided or 120 days or less and resided in an emergency shelter or place not meant for human habitation immediately before entering that institution. This waiver is in effect until June 30, 2021.

Nature of Requirement: The definition of homeless in 24 CFR 578.3 includes under paragraph (1)(iii) an individual who is exiting an institution where he or she resided for 90 days or less and has resided in an emergency shelter or place not meant for human habitation immediately before entering that institution, which is an interpretation of § 103(a)(4) of the McKinney-Vento Act which includes an individual who resided in a shelter or place not meant for human habitation and who is exiting an institution where he or she temporarily resided.

Granted By: James A. Jemison, Principal Deputy Assistant Secretary for Community Planning and Development.

Date Granted: March 31, 2021.

Reason Waived: HUD originally waived this requirement on September 30, 2020, until March 31, 2021 to keep housing options open for individuals who otherwise would have been homeless but were reporting longer stays in institutions as a result of COVID-19 (e.g., longer time in jail due to a postponed court dates due to courts closings or courts operating at reduced capacity and longer hospital stays when infected with COVID-19. Allowing someone who was residing in an emergency shelter or place not meant for human habitation prior to entering the institution to maintain their homeless status while residing in an institution for longer than 90 days is necessary to prevent the spread of and respond to COVID-19 by expanding housing options for people who were experiencing homelessness and institutionalized for longer than traditionally required due to COVID-19. Recipients continue to report potential program participants are staying in institutions for longer periods of time due to COVID-19; therefore, HUD is extending this waiver to allow someone who was residing in an emergency shelter or place not meant for human habitation prior to entering the institution to maintain their homeless status while residing in an institution for longer than 90 days.

Contact: Norm Suchar, Director, Office of Special Needs Assistance Programs, Office of Community Planning and Development, Department of Housing and Urban Development, 451 Seventh Street SW, Room 7262, Washington, DC 20410, telephone number (202) 708-4300.

• Regulation: 24 CFR 578.33(c).

Project/Activity: The requirement that the renewal grant amount be based on the budget line items in the final year of the grant being renewed is further waived for all projects that amend their grant agreement between March 31, 2021 and June 30, 2021 to move funds between budget line items in a project in response to the COVID-19 pandemic. Recipients may then apply in the next FY CoC Program funding cycle based on the budget line items in the grants before they were amended.

Nature of Requirement: 24 CFR 578.33(c) requires that budget line item amounts a recipient is awarded for renewal in the CoC Program Competition will be based on the amounts in the final year of the prior funding period of the project.

Granted By: James A. Jemison, Principal Deputy Assistant Secretary for Community Planning and Development.

Date Granted: March 31, 2021.

Reason Waived: HUD originally waived this requirement for grant agreement amendments signed between March 31, 2020 and October 1, 2020 to allow recipients to move funds between budget line items in a project in response to the COVID-19 pandemic and still apply for renewal in the next FY CoC Program funding cycle based on the budget line items in the grants before they were amended. HUD again waived this requirement for all grant agreements signed from October 1, 2020 until December 31, 2020. HUD again waived this requirement for all grants signed between December 30, 2020 and March 31, 2021. Recipients continue to report needing to shift budget line items to respond to the COVID-19 pandemic (e.g., providing different supportive service necessitated by the pandemic or serving fewer people because the layout of the housing does not meet local social distancing recommendations) without changing the original design of the project when it is not operating in a public health crisis and can resume normal operations.

Contact: Norm Suchar, Director, Office of Special Needs Assistance Programs, Office of Community Planning and Development, Department of Housing and Urban Development, 451 Seventh Street SW, Room 7262, Washington, DC 20410, telephone number (202) 708-4300.

• Regulation: 24 CFR 578.37(a)(1)(ii)(F).

Project/Activity: The requirement in 24 CFR 578.37(a)(1)(ii)(F) that projects require program participants to meet with case managers not less than once per month is waived for all permanent housing-rapid re-housing projects until June 30, 2021.

Nature of Requirement: Recipients must require program participants of permanent housing-rapid re-housing projects to meet with a case manager at least monthly.

Granted By: James A. Jemison, Principal Deputy Assistant Secretary for Community Planning and Development.

Date Granted: March 31, 2021.

Reason Waived: HUD originally waived this requirement for 2-months on March 31, 2020. On May 22, 2020 HUD again waived this requirement for an additional 3 months and on September 30, 2020 HUD once again waived this requirement until December 31, 2020. Recipients are continuing to report limited staff capacity as staff members are home for a variety of reasons related to COVID-19 (e.g., quarantining, children home from school, working elsewhere in the community to manage the COVID-19 response). In addition, not all program participants have capacity to meet via phone or internet. Waiving the monthly case management requirement will allow recipients to provide case management on an as needed basis and reduce the possible spread and harm of COVID-19.

Contact: Norm Suchar, Director, Office of Special Needs Assistance Programs, Office of Community Planning and Development, Department of Housing and Urban Development, 451 Seventh Street SW, Room 7262, Washington, DC 20410, telephone number (202) 708-4300.

• Regulation: 24 CFR 578.49(b)(2).

Project/Activity: The Fair Market Rent restriction continues to be waived for any lease executed by a recipient or subrecipient to provide transitional or permanent supportive housing until June 30, 2021. The affected recipient or subrecipient must still ensure that rent paid for individual units that are leased with leasing dollars meet the rent reasonableness standard in 24 CFR 578.49(b)(2).

Nature of Requirement: Rent payments for individual units with leasing dollars may not exceed Fair Market Rent.

Granted By: James A. Jemison, Principal Deputy Assistant Secretary for Community Planning and Development.

Date Granted: March 31, 2021.

Reason Waived: HUD originally waived this requirement for 6-months on March 31, 2020. On September 30, 2020 HUD again waived this requirement until December 31, 2020. Extending this waiver of the limit on using grant leasing funds to pay above FMR for individual units, but not greater than reasonable rent, will assist recipients in locating additional units to house individuals and families experiencing homelessness and reduce the spread and harm of COVID-19.

Contact: Norm Suchar, Director, Office of Special Needs Assistance Programs, Office of Community Planning and Development, Department of Housing and Urban Development, 451 Seventh Street SW, Room 7262, Washington, DC 20410, telephone number (202) 708-4300.

• Regulation: 24 CFR 578.53(e)(8)(ii)(B) and 578.53(d).

Project/Activity: The limitation on eligible housing search and counseling activities is waived so that CoC Program funds may be used for up to 6 months of a program participant's utility arrears and up to 6 months of a program participant's rent arrears, when those arrears make it difficult to obtain housing. This waiver is in effect until June 30, 2021.

Nature of Requirement: 24 CFR 578.53(e)(8) allows recipients and subrecipients to use CoC funds to pay for housing search and counseling services to help eligible program participants locate, obtain, and retain suitable housing. For program participants whose debt problems make it difficult to obtain housing, 24 CFR 578.53(e)(8)(ii)(B) makes eligible the costs of credit counseling, accessing a free personal credit report, and resolving personal credit issues. However, payment of rental or utility arrears is not included as an eligible cost. 24 CFR 578.53(d) limits eligible supportive service costs to those explicitly listed in 24 CFR 578.53(e), which is a more limited list than is eligible under the McKinney-Vento Act.

Granted By: James A. Jemison, Principal Deputy Assistant Secretary for Community Planning and Development.

Date Granted: March 31, 2021.

Reason Waived: HUD originally waived this requirement for 1-year on March 31, 2020 to allow recipients and subrecipients to pay up to 6 months of rental arrears and 6 months of utility arrears to remove barriers to obtaining housing quickly and help reduce the spread and harm of COVID-19. Extending this waiver is necessary to remove barriers that would prevent program participants from finding housing quickly, particularly as more people find themselves with rental arrears due to COVID-19.

Contact: Norm Suchar, Director, Office of Special Needs Assistance Programs, Office of Community Planning and Development, Department of Housing and Urban Development, 451 Seventh Street SW, Room 7262, Washington, DC 20410, telephone number (202) 708-4300.

• Regulation: 24 CFR 578.7(c)(2)(iii), and Sections 4.4 and 4.5 of the Notice CPD-18-08: 2019 HIC and PIT Data Collection for CoC and Emergency Solutions Grants Program.

Project/Activity: HUD is waiving 24 CFR 578.7(c)(2)(iii) to the extent necessary to remove some of the data collection requirements in Notice CPD-18-08 as they relate to unsheltered homeless persons for CoCs that do not take advantage of the waivers of 24 CFR 578.3, 24 CFR 578.7(c)(2) and 24 CFR 578.7(c)(2)(i) included in the January 7, 2021 waiver memorandum (and must therefore conduct a FY2021 unsheltered homeless persons point-in-time count) but follow the notification process prescribed in the January 7, 2021 waiver memorandum to use this waiver.

In Section 4.4 of Notice CPD-18-08, and for unsheltered persons only, HUD is now only requiring CoCs to collect data on the total number of people sleeping in unsheltered situations on the night of each CoC's point-in-time count, with no household, demographic, or subpopulation data. The requirements of Section 4.4 of Notice CPD-18-08 remain unchanged for sheltered homeless persons.

In Section 4.5 of Notice CPD-18-08, HUD is now eliminating the requirement that CoCs report on additional homeless population data for unsheltered persons. The requirements of Section 4.5 remain unchanged for sheltered homeless persons. This waiver of the requirements at 24 CFR 578.7(c)(2)(iii) that requires CoCs to comply with additional requirements established by HUD in Sections 4.4 and 4.5 of Notice CPD-18-08 for the FY2021 biennial point-in-time count of unsheltered homeless persons is available for CoCs that complete the notification process by the January 20, 2021 deadline, but may choose to use the waiver of 24 CFR 578.7(c)(2)(iii), which removes some of the data collection requirements in Notice CPD-18-08: 2019 HIC and PIT Data Collection for CoC and ESG Programs associated with the point-in-time count for unsheltered homeless persons.

Nature of Requirement: 24 CFR 578.7(c)(2)(iii) requires CoCs to comply with additional requirements established by HUD by Notice for the point-in-time count. HUD has established additional point-in-time count requirements through Notice CPD-18-08: 2019 HIC and PIT Data Collection for CoC and ESG Programs. Sections 4.4 and 4.5 of Notice CPD-18-08 include data requirements for the point-in-time count of both sheltered and unsheltered homeless persons.

Granted By: John Gibbs, Acting Assistant Secretary for Community Planning and Development.

Date Granted: January 7, 2021.

Reason Waived: Conducting a point-in-time count of people experiencing unsheltered homelessness requires countless hours of planning and volunteers. Additionally, on the night of the count, it requires people to approach people experiencing unsheltered homelessness to collect data. Because of COVID-19, CoCs have been short staffed and busy preparing for and implementing measures to prevent the spread of COVID-19 in their communities. Additionally, CoCs are reporting challenges in finding volunteers to survey individuals experiencing unsheltered homelessness on the night of the count due to fears of COVID-19. Further, CoCs are reporting challenges obtaining personal protective equipment (PPE) necessary to equip volunteers and people experiencing unsheltered homelessness to have the conversations necessary to collect the required data. These challenges are present in every part of the country. As of December, every single state had at least 9 new COVID cases per day per 100,000 population. For these reasons, providing waiver flexibility for the FY2021 point-in-time count for unsheltered homelessness helps prevent the spread of COVID-19.

Contact: Norm Suchar, Director, Office of Special Needs Assistance Programs, Office of Community Planning and Development, Department of Housing and Urban Development, 451 Seventh Street SW, Room 7262, Washington, DC 20410, telephone number (202) 708-4300.

• Regulation: 24 CFR 578.75(b)(1).

Project/Activity: The waiver of the requirement in 24 CFR 578.75(b)(1) that the recipient or subrecipient physically inspect each unit to assure that the unit meets HQS before providing assistance on behalf of a program participant is in effect until June 30, 2021 for recipients and subrecipients that are able to obtain certification from the owner that they have no reasonable basis to have knowledge that life-threatening conditions exist in the unit or units in question; and the recipient or subrecipient has written policies to physically inspect the unit within 3 months after the health officials determine special measures to prevent the spread of COVID-19 are no longer necessary.

Nature of Requirement: 24 CFR 278.75(b)(1) requires that recipients or subrecipients physically inspect each unit to assure that it meets HQS before any assistance will be provided for that unit on behalf of a program participant.

Granted By: James A. Jemison, Principal Deputy Assistant Secretary for Community Planning and Development.

Date Granted: March 31, 2021.

Reason Waived: On March 31, 2020, HUD waived the physical inspection requirement at 24 CFR 578.75(b)(1) for 6-months so long as recipients or subrecipients were able to visually inspect the unit using technology to ensure the unit met HQS before any assistance was provided and recipients or subrecipients had written policies in place to physically reinspect the unit within 3 months after the health officials determined special measures to prevent the spread of COVID-19 are no longer necessary. However, this standard still relies on program participants or landlords having the technology to carry out this virtual inspection. Additionally, recipients and subrecipients are still reporting difficulty in conducting the initial inspection of units due to social distancing guidelines.

Contact: Norm Suchar, Director, Office of Special Needs Assistance Programs, Office of Community Planning and Development, Department of Housing and Urban Development, 451 Seventh Street SW, Room 7262, Washington, DC 20410, telephone number (202) 708-4300.

• Regulation: 24 CFR 578.75(b)(2).

Project/Activity: 24 CFR 578.75(b)(2) requires that recipients or subrecipients are required to inspect all units supported by leasing or rental assistance funding under the CoC and YHDP Programs at least annually during the grant period to ensure the units continue to meet HQS. This waiver is in effect until June 30, 2021.

Nature of Requirement: Recipients and subrecipients must inspect all units for which leasing or rental assistance funds are used, at least annually to ensure they continue to meet HQS.

Granted By: James A. Jemison, Principal Deputy Assistant Secretary for Community Planning and Development.

Date Granted: March 31, 2021.

Reason Waived: HUD originally waived the requirement for 1-year on March 31, 2020 to help recipients and subrecipients prevent the spread of COVID-19. Because social distancing and stay at home measures are still in place in most parts of the country, HUD is extending this waiver. Additionally, recipients will need time when social distancing guidelines are no longer in effect to prepare staff to re-inspect (and inspect as discussed above) units for HQS; therefore, HUD is extending the waiver beyond the date the state or local public health official has determined special measures are no longer necessary to prevent the spread of COVID-19.

Contact: Norm Suchar, Director, Office of Special Needs Assistance Programs, Office of Community Planning and Development, Department of Housing and Urban Development, 451 Seventh Street SW, Room 7262, Washington, DC 20410, telephone number (202) 708-4300.

• Regulation: 24 CFR 578.75(c) and 24 CFR 982.401(d)(2)(ii) as required by 24 CFR 578.75(b).

Project/Activity: The requirement that each unit assisted with CoC Program funds or YHDP funds have at least one bedroom or living/sleeping room for each two persons is waived for recipients providing Permanent Housing-Rapid Rehousing assistance for leases and occupancy agreements executed by recipients and subrecipients between the dates of March 31, 2021 and June 30, 2021 and extending only until the later of (1) the end of the initial term of the lease or occupancy agreement; or (2) June 30, 2021. Recipients are still required to follow State and local occupancy laws.

Nature of Requirement: 24 CFR 578.75(c), suitable dwelling size, and 24 CFR 982.401(d)(2)(ii) as required by 24 CFR 578.75(b), Housing Quality Standards, requires units funded with CoC Program funds to have at least one bedroom or living/sleeping room for each two persons.

Granted By: James A. Jemison, Principal Deputy Assistant Secretary for Community Planning and Development.

Date Granted: March 31, 2021.

Reason Waived: On September 30, 2020, HUD waived the requirements at 24 CFR 982.401(d)(2)(ii) and 24 CFR 578.75(c) to allow households experiencing homelessness to obtain permanent housing that is affordable and that they assess is adequate. Recipients continue to report that households experiencing homelessness remain unable to afford the limited supply of affordable housing in many jurisdictions across the country and this has been made even more challenging due to the economic impact of COVID-19. HUD is waiving the requirements at 24 CFR 982.401(d)(2)(ii) and 24 CFR 578.75(c) to reduce the spread of COVID-19 by allowing households to move into housing instead of staying in congregate shelter. Consistent with the Executive Order on Fighting the Spread of COVID-19 by Providing Assistance to Renters and Homeowners, grantees should balance use of this waiver with the recommendations of public health officials to limit community spread and reduce risks to high-risk populations. For example, a large unit with rooms than can be partitioned for privacy and distancing, or the waiver can be applied for units that will house only one family household.

Contact: Norm Suchar, Director, Office of Special Needs Assistance Programs, Office of Community Planning and Development, Department of Housing and Urban Development, 451 Seventh Street SW, Room 7262, Washington, DC 20410, telephone number (202) 708-4300.

II. Regulatory Waivers Granted by the Office of Housing—Federal Housing Administration (FHA)

For further information about the following regulatory waivers, please see the name of the contact person that immediately follows the description of the waiver granted.

• Regulation: 24 CFR 5.801(c)(2).

Project/Activity: All Multifamily & Healthcare properties.

Nature of Requirement: Regulation requires that properties with a financial reporting requirement provide that financial statement to HUD by a date certain. This requirement was deferred until 6/30/21 for properties with a due date between 10/1/20-6/31/21.

Granted by: Lopa Kolluri, Principal Deputy Assistant Secretary for Housing—Federal Housing Administration.

Date Granted: March 30, 2021.

Reason Waived: Difficulty in completing audits on-time due to travel restrictions and general workflow challenges related to the COVID-19 pandemic.

Contact: Michael Bruggman, Director of Asset and Counterparty Oversight Division, Office of Asset Management and Portfolio Oversight, Office of Multifamily Housing, Department of Housing and Urban Development, 451 Seventh Street SW, Room 6151, Washington, DC 20410, telephone (202) 402-5619. Michael.bruggman@hud.gov.

• Regulation: 24 CFR 203.604 Contact with the mortgagor.

Project/Activity: The requirement for early default intervention under FHA's early default servicing requirements stipulate that mortgagees must conduct a face-to-face interview with the borrower to gather and convey required information and determine the borrower's circumstances and appropriate repayment plans.

Nature of Requirement: This is a partial waiver of servicing requirement in 24 CFR 203.604 that mortgagees must have a face-to-face interview before three full monthly installments due on the mortgage are unpaid. The waiver provided alternative methods that the mortgagee could use to make contact.

Granted by: Janet M. Golrick, Acting Assistant Secretary for Housing—Federal Housing Commissioner.

Date Granted: February 2, 2021.

Reason Waived: The partial waiver of required face-to-face contact was issued due to continued public health concerns around the spread of Coronavirus Disease 2019. Without the partial waiver, retention of the face-to-face interview requirement for servicing FHA-insured mortgages during the COVID-19 pandemic introduces health risks and potential non-compliance by both mortgagees and borrower. Without the partial waiver, retention of the face-to-face interview requirement during the COVID-19 pandemic could introduce increased health risks to FHA borrowers and mortgagees.

Contact: Elissa Saunders, Acting Director, Office of Single Family Asset Management, Office of Housing, Department of Housing and Urban Development, 451 Seventh Street SW, Room 9278, Washington, DC 20410, telephone (202) 402-2378.

III. Regulatory Waivers Granted by the Office of Public and Indian Housing

For further information about the following regulatory waivers, please see the name of the contact person that immediately follows the description of the waiver granted.

• Regulation: 24 CFR 982.161(a)(1).

Project/Activity: Town of Islip Housing Authority requested a conflict-of-interest provision in HUD regulations and Section 19 of the Public Housing Annual Contributions Contract (ACC).

Nature of Requirement: The conflict-of-interest provisions under the HCV regulations and the ACC prevent a Public Housing Agency (PHA) or any of its contractors or subcontractors from entering into any contract or arrangement in connection with the HCV program or Public Housing property, in which any present or former member or officer of the PHA has a direct or indirect interest during his or her tenure or for one year thereafter.

Granted By: Dominique Blom, General Deputy Assistant Secretary, Public and Indian Housing.

Date Granted: March 5, 2021.

Reason Waived: The PHA's Executive Director retired in November 2020 and the Deputy Director was appointed Interim Executive Director while the PHA searches for a qualified candidate for the Executive Director. The PHA's Board of Commissioners requested to hire the former Executive Director on a part-time temporary basis to assist with the transition of the Deputy Director to Interim Executive Director and to serve as the Deputy Director so the services to PHA's residents are not diminished and to enable the PHA to address additional demands imposed by the COVID pandemic. The PHA reviewed its current staffing and determined that no other PHA employee possesses a similar level of skills, knowledge, and expertise as the former Executive Director. The PHA also evaluated the possibility of hiring a consulting firm but doing so would come at a much higher cost. The PHA's attorney evaluated State and local law and determined that the former Executive Director would be permitted under State and local law to be hired by PHA. The HUD Field Office, including HUD's Regional Counsel, supported approval of this request. Thus, pursuant to the waiver authority provided at 24 CFR 5.110, HUD determined that there was good cause to waive 24 CFR 982.161(a)(1).

Contact: Danielle Bastarache, Deputy Assistant Secretary, Office of Public Housing and Voucher Programs, Office of Public and Indian Housing, Department of Housing and Urban Development, 451 Seventh Street SW, Room 4204, Washington, DC 20410, telephone (202) 402-5264.

• Regulation: 24 CFR 5.801(c) and 24 CFR 5.801(d)(1).

Project/Activity: Housing Authority of the City of Lake Charles (LA004).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Dominique Blom, General Deputy Assistant Secretary for Public and Indian Housing.

Date Granted: March 9, 2021.

Reason Waived: The HA requested relief from compliance for additional time to submit its financial reporting requirements for the fiscal year end (FYE) of September 20, 2020. The Housing Authority of the City of Lake Charles requested a waiver pursuant to “Relief from HUD Requirements Available to Public Housing Authorities (PHAs) During CY 2020/2021 to Assist with Recovery and Relief Efforts on Behalf of Families Affected by Disasters” FR-6050-N-04 (November 12, 2020). A previous letter was sent to LCHA from HUD on February 11, 2021 that addressed the waiver requests by LHCA for Section 2(a), Section 3(b), Section 3(c), and Section 3(d). This letter addresses the additional waivers requested in accordance with FR-6050-N-04 and 24 CFR 5.110.

Contact: Lara Philbert, Assessment Manager, Integrated Assessment Team, Real Estate Assessment Center, Office of Public and Indian Housing, Department of Housing and Urban Development, 550 12th Street SW, Suite 100, Washington, DC 20410, telephone (202) 475-7908.

HUD's Summary of CARES Act Notices Providing Waivers: 1/1/21 to 3/31/21

Authority: Coronavirus Aid, Relief, and Economic Security Act (CARES Act) and regulatory waiver authority is also provided by 24 CFR 5.110 and 91.600.

• Regulation: 24 CFR 576.106(e).

Project/Activity: HUD granted a waiver of 24 CFR 576.106(e) to the City of Tulsa, to allow its subrecipient, the Mental Health Association Oklahoma (MHAOK) to provide rapid re-housing rental assistance and housing relocation and stabilization services to program participants who have chosen units that MHAOK owns, which would require that MHAOK will have to enter into a rental assistance agreement with its property management division. MHAOK is required to comply with the Conflict of Interest requirements as stated in 24 CFR 576.404.

Nature of Requirement: Section 576.106(e) of the Emergency Solutions Grants (ESG) Program Interim rule requires recipients to have a rental assistance agreement with the owner of any property for which they will provide rental assistance payments. The rental assistance agreement must include the terms under which rental assistance will be provided. It also requires the owner to give the recipient or subrecipient a copy of any notice to the program participant to vacate the housing unit or any complaint used under State or local law to commence an eviction action against the program participant. Also, each rental assistance agreement that is executed or renewed on or after December 16, 2016 must include all protections that apply to tenants and applicants under 24 CFR part 5, subpart L, as supplemented by § 576.409, except for the emergency transfer plan requirements under 24 CFR 5.2005(e) and 576.409(d). If the housing is not assisted under another “covered housing program”, as defined in 24 CFR 5.2003, the agreement may provide that the owner's obligations under 24 CFR part 5, subpart L (Protection for Victims of Domestic Violence, Dating Violence, Sexual Assault, or Stalking), expire at the end of the rental assistance period.

Granted By: John Gibbs, Principal Deputy Assistant Secretary for Community Planning and Development.

Date Granted: January 6, 2021.

Reason Waived: HUD granted the waiver to increase housing options for ESG program participants in Tulsa, OK being assisted by the city's subrecipient, MHAOK. Homelessness in the City of Tulsa increased 27% from 2015 to 2020. MHAOK has been awarded rapid rehousing funding to provide rapid rehousing rental assistance and housing relocation and stabilization services for up to 140 households. MHAOK owns 40 properties in the community, which are included in the available pool of units from which an eligible program participant may choose to live. If a program participant selects one of their own housing units, MHAOK requires a waiver of the rental assistance agreement requirements in order to enter an agreement with its property management division (Eastoak Property Management).

Contact: Norm Suchar, Director, Office of Special Needs Assistance Programs, Office of Community Planning and Development, Department of Housing and Urban Development, 451 Seventh Street SW, Room 7262, Washington, DC 20410, telephone number (202) 708-4300.

• Regulation: 24 CFR 576.2, definition of “homeless” (1)(iii).

Project/Activity: HUD granted a waiver of 24 CFR 576.2, paragraph (1)(iii) in CPD Memo: Availability of Additional Waivers for Community Planning and Development (CPD) Grant Programs to Prevent the Spread of COVID-19 and Mitigate Economic Impacts Caused by COVID-19 (March 31, 2021). Paragraph (1)(iii) of the homeless definition in 24 CFR 576.2 is waived to the extent that an individual may qualify as homeless so long as he or she is exiting an institution where they resided for 120 days or less and resided in an emergency shelter or place not meant for human habitation immediately before entering that institution. The waiver is in effect until June 30, 2021 and is made available with respect to all ESG grants, whether funded under the CARES Act or annual ESG appropriations.

Nature of Requirement: The definition of homeless in 24 CFR 576.2 includes under paragraph (1)(iii) an individual who is exiting an institution where he or she resided for 90 days or less and has resided in an emergency shelter or place not meant for human habitation immediately before entering that institution, which is an interpretation of § 103(a)(4) of the McKinney-Vento Act which includes an individual who resided in a shelter or place not meant for human habitation and who is exiting an institution where he or she temporarily resided (emphasis added).

Granted By: James A. Jemison, Principal Deputy Assistant Secretary for Community Planning and Development.

Date Granted: March 31, 2021.

Reason Waived: HUD originally waived this requirement on September 30, 2020 to keep housing options open for individuals who otherwise would have been homeless but were reporting longer stays in institutions as a result of COVID-19 (e.g., longer time in jail due to a postponed court dates due to courts closings or courts operating at reduced capacity and longer hospital stays when infected with COVID-19). Allowing someone who was residing in an emergency shelter or place not meant for human habitation prior to entering the institution to maintain their homeless status while residing in an institution for longer than 90 days is necessary to prevent the spread of and respond to COVID-19 by expanding housing options for people who were experiencing homelessness and institutionalized for longer than traditionally required due to COVID-19. Recipients continue to report potential program participants are staying in institutions for longer periods of time due to COVID-19; therefore, HUD extended this waiver to allow someone who was residing in an emergency shelter or place not meant for human habitation prior to entering the institution to maintain their homeless status while residing in an institution for longer than 90 days.

Contact: Norm Suchar, Director, Office of Special Needs Assistance Programs, Office of Community Planning and Development, Department of Housing and Urban Development, 451 Seventh Street SW, Room 7262, Washington, DC 20410, telephone number (202) 708-4300.

• Regulation: 24 CFR 576.203(a)(1).

Project/Activity: HUD granted a waiver of 24 CFR 576.203(a)(1) to Oregon Housing and Community Services (OHCS), to extend its obligation date to March 31, 2021 to provide time to evaluate new applications, award funds, and account for unforeseen delays due to the implementation of a new funding approach to meet the unprecedented need during the COVID-19 pandemic and identify new subrecipients with the capacity to administer ESG-CV funds.

Nature of Requirement: Section 24 CFR 576.203(a)(1) requires states to obligate funds within 60 days from the date that it signs the grant agreement with HUD. HUD further waived this requirement in CPD-20-08 Notice: Waivers and Alternative Requirements for the Emergency Solutions Grants (ESG) Program Under the CARES Act (ESG-CV Notice) so long as states obligated funds within 180 days for activities it will carry out itself and 240 days for activities it will obligate to subrecipients.

Granted By: John Gibbs, Principal Deputy Assistant Secretary for Community Planning and Development.

Date Granted: January 7, 2021.

Reason Waived: HUD granted the waiver to extend OHCS's obligation deadline from February 18, 2021 to March 31, 2021 to provide additional time to implement a new competitive process for allocating funds and identifying new subrecipients with the capacity to administer ESG CARES Act funds. The waiver provides OHCS with time needed to complete their funding process.

Contact: Norm Suchar, Director, Office of Special Needs Assistance Programs, Office of Community Planning and Development, Department of Housing and Urban Development, 451 Seventh Street SW, Room 7262, Washington, DC 20410, telephone number (202) 708-4300.

[FR Doc. 2021-14135 Filed 7-1-21; 8:45 am]

BILLING CODE 4210-67-P